DEPARTMENT OF COMMERCE

Foreign-Trade Zones Board

[B-27-2020]

Foreign-Trade Zone (FTZ) 143—West Sacramento, California; Notification of Proposed Production Activity, LiCAP Technologies, Inc. (Electrodes), Sacramento, California

The Port of Sacramento, grantee of FTZ 143, submitted a notification of proposed production activity to the FTZ Board on behalf of LiCAP Technologies, Inc. (LiCAP Technologies), located in Sacramento, California. The notification conforming to the requirements of the regulations of the FTZ Board (15 CFR 400.22) was received on April 21, 2020.

The applicant has submitted a separate application for FTZ designation at the company's facility under FTZ 143. The facility is used for the production of electrodes. Pursuant to 15 CFR 400.14(b), FTZ activity would be limited to the specific foreign-status materials and components and specific finished product described in the submitted notification (as described below) and subsequently authorized by the FTZ Board.

Production under FTZ procedures could exempt LiCAP Technologies from customs duty payments on the foreign-status components used in export production. On its domestic sales, for the foreign-status materials/components noted below, LiCAP Technologies would be able to choose the duty rate during customs entry procedures that applies to electrodes (duty-free). LiCAP Technologies would be able to avoid duty on foreign-status components which become scrap/waste. Customs duties also could possibly be deferred or reduced on foreign-status production equipment.

The components and materials sourced from abroad include: Carbon powder; aluminum foil—coated aluminum foil; and, electrolytes (duty rate ranges from 4.8 to 5.3%). The request indicates that certain materials/components are subject to special duties under Section 232 of the Trade Expansion Act of 1962 (Section 232) and Section 301 of the Trade Act of 1974 (Section 301), depending on the country of origin. The applicable Section 232 and Section 301 decisions require subject merchandise to be admitted to FTZs in privileged foreign status (19 CFR 146.41).

Public comment is invited from interested parties. Submissions shall be addressed to the Board's Executive Secretary and sent to: ftz@trade.gov. The closing period for their receipt is June 24, 2020.

A copy of the notification will be available for public inspection in the “Reading Room” section of the Board's website, which is accessible via www.trade.gov/ftz.

For further information, contact Christopher Wedderburn at Chris.Wedderburn@trade.gov or (202) 482-1963.

Dated: May 12, 2020.
Andrew McGilvray,
Executive Secretary.

[FR Doc. 2020-10450 Filed 5-14-20; 8:45 am]

BILLING CODE 3510-DS-P